DEPARTMENT OF THE INTERIOR

National Park Service

National Register of Historic Places; Notification of Pending Nominations

Nominations for the following properties being considered for listing in the National Register were received by the National Park Service before June 30, 2001. Pursuant to section 60.13 of 36 CFR part 60 written comments concerning the significance of these properties under the National Register criteria for evaluation may be forwarded to the National Register, National Park Service, 1849 C St., NW., NC400, Washington, DC 20240. Written comments should be submitted by August 1, 2001.

Carol D. Shull,
Keeper of the National Register of Historic Places.

ARIZONA

Apache County

Rattlesnake Point Pueblo, Lyman Lake State Park, St. Johns, 01000792

CALIFORNIA

Alameda County

10th Street Market, 901-921 Washington St., Oakland, 01000826

KENTUCKY

Allen County

Graves, Dr. Pellie G., House, 301 N 4th St., Scottsville, 01000798

Scottsville Downtown Commercial Historic District, Public Square and extending roughly one block N and S on Court St., and one block E and W on Main, Scottsville, 01000797

Scottsville Freight Depot, E. Main St. at 8th St., Scottsville, 01000799

Scottsville Public Spring, Jct. of First and Locust Sts., Scottsville, 01000801

Tabernacle, The, 829 Holland Rd., Scottsville, 01000800

Caldwell County

Halleck's Chapel and Halleck's School, 0.5 mi. N of jct. of KY 293 and Caldwell Chapel Rd., Princeton, 01000802

Hart County

Horse Cave Historic District, KY 218, roughly bet. US 31W and Edwards Ave., Horse Cave, 01000796

Monroe County

Baxter, Barlow, House, (Monroe County, Kentucky MPS) Celina Rd., KY 163, Hestand, 01000795

Fowler, Clark C., House, (Monroe County, Kentucky MPS) KY 214, Turkey Neck Bend Rd., Tompkinsville, 01000794

Proffitt, George W., Jr., House, (Monroe County, Kentucky MPS) 1945 County House Rd., Tompkinsville, 01000793

Union County

Camp Breckinridge Non-Commissioned Officers' Club, 1116 N. Village Rd., Morganfield, 01000804

Warren County

Mitchell, Carrie Burks, House, Address Restricted, Bowling Green, 01000803

LOUISIANA

Livingston Parish

Hungarian Settlement School, LA 43 and Presbyterian Church Rd., Albany, 01000805

Rapides Parish

Rugg Elementary School, 1319 Bush Ave., Alexandria, 01000807

Vermilion Parish

Villien, Dr. Joseph Angel, House, 200 W. Joseph St., Maurice, 01000806

Winn Parish

Brister School House, Parish Rd. 240 and Brister School Rd., Sikes, 01000808

MAINE

Androscoggin County

Union Church, 744 Royalsborough Rd., Durham, 01000810

Cumberland County

Proprietors Meeting House and Parish House, Jct. of ME 22 and Old County Rd., S. Buxton, 01000813

Hancock County

Beth Eden Chapel, Naskeag Point Rd., .05 mi. N of jct. with Naskeag Loop Rd., Brooklin, 01000818

First Baptist Church, 362 Lamoine Beach Rd., E. Lamoine, 01000817

Kennebec County

Maine Insane Hospital (Boundary Increase), Roughly bounded by Hospital St. and Hospital Ave., Augusta, 01000811

Winthrop Street Historic District, Roughly bounded by State, Bridge, North and South Chestnut, and Green Sts. Augusta, 01000815

Washington County

Governors Point, Address Restricted, Grand Lake Stream Plantation, 01000812

Grace Episcopal Church, US 1, 0.5 mi. NW of jct. with Third Rd., Robbinston, 01000816

Maine Archeological Survey site 62.46, Address Restricted, Machiasport, 01000814

Ntolonapemk, Eastern Surplus Superfund Site, Address Restricted, Meddybemps, 01000819

MARYLAND

Anne Arundel County

Oakwood, 4566 Solomons Island Rd., Harwood, 01000820

Baltimore Independent city

Grace—Hampden Methodist Episcopal Church, 1014 W. 36th St., Baltimore (Independent City), 01000809

Washington County

Nicodemus Mill Complex, 20019 Nicodemus Mill Rd., Keedyville, 01000821

MISSISSIPPI

Jackson County

Orange Avenue Historic District, (Pascagoula MPS) Roughly bounded by Live Oak and Orange Aves. and Frederic and Magnolia Sts., Pascagoula, 01000827

NEVADA

Churchill County

Douglass, Robert L., House, 10 S. Carson St., Fallon, 01000822

OREGON

Columbia County

Woodbine Cemetery, 75900 Larson Rd., Rainier, 01000829

Jackson County

Skidmore Academy Historic District, Roughly bounded by the RR R-O-W, Granite, Scenic, and Maple Sts., Ashland, 01000832

Multnomah County

Nelson, Otto W. and Ida L., House, 203 SE 15th Ave., Portlant, 01000831

Nicolai—Cake—Olson House, 1903 NE Hancock St., Portland, 01000828

Umatilla County

Meacham Hotel, Main St., Meacham, 01000830

UTAH

Salt Lake County

Central City Historic District (Boundary Increase), Roughly bounded by S. Temple, 400 South, 700 East and 1100 East, Salt Lake City, 01000823

VERMONT

Orleans County

District Number Four School, (Educational Resources of Vermont MPS) 116 N. Craftsbury Rd., Craftsbury, 01000825

Windsor County

Taftsville Historic District, Portions of US 4, Upper River Rd., Quechee Main St., all Butternut Ln., Happy Valley Rd., Sugar Hill Rd., Hartford, 01000824

A request for removal has been made for the following resource:

OREGON

Clackamas County

Moralla High School 413 S. Molalla Ave., Molalla, 96000622

Lane County

Spores, Jacob C., House N of Eugene at 90311, Coburg Rd. Eugene, 77001107

[FR Doc. 01-17825 Filed 7-16-01; 8:45 am]

BILLING CODE 4310-70-P